DEPARTMENT OF COMMERCE

International Trade Administration

[A-580-807]

Polyethylene Terephthalate Film, Sheet, and Strip from South Korea: Notice of Rescission of Antidumping Duty Administrative Review

AGENCY: Import Administration, International Trade Administration, Department of Commerce.

SUMMARY: The Department of Commerce (the Department) is rescinding its administrative review of the antidumping duty order on polyethylene terephthalate film, sheet, and strip from South Korea for the period June 1, 2005 to May 31, 2006.

EFFECTIVE DATE: December 7, 2006.

FOR MORE INFORMATION CONTACT: Michael J. Heaney or Robert James AD/CVD Operations, Office 7, Import Administration, International Trade Administration, U.S. Department of Commerce, 14th Street and Constitution Avenue, NW, Washington, DC 20230; telephone: (202) 482-4475 and (202) 482-0649, respectively.

SUPPLEMENTARY INFORMATION:

Background

On June 2, 2006, the Department published in the Federal Register its notice of opportunity to request an administrative review of the antidumping duty order on polyethylene terephthalate film, sheet, and strip (PET film) from South Korea for the period June 1, 2005, through May 31, 2006. See Antidumping of Countervailing Duty Order, Finding, or Suspended Investigation; Opportunity to Request Administrative Review, 71 FR 32032 (June 2, 2006). In response, on June 30, 2006, DuPont Teijin Films, Mitsubishi Polyester Film, Inc., and Toray Plastics (America), Inc. (collectively, the petitioners) timely requested an administrative review of Kohap, Ltd., a manufacturer/exporter of subject merchandise. No other party in this case requested an administrative review. On July 27, 2006, the Department initiated an administrative review of Kohap, Ltd. See Initiation of Antidumping and Countervailing Duty Administrative Reviews and Request for Revocation in Part, 71 FR 42626 (July 27, 2006). On October 25, 2006, petitioners submitted a letter withdrawing their request for an administrative review of Kohap, Ltd. See letter from petitioners dated October 25, 2006.

Rescission of Review

19 CFR 351.213(d)(1) provides that the Department will rescind an administrative review if the party that requested the review withdraws its request for review within 90 days of the date of publication of the notice of initiation of the requested review, or withdraws its request for review at a later date if the Department determines it is reasonable to extend the time limit for withdrawing the request. In response to petitioners' withdrawal of their request for an administrative review, and because the request was timely withdrawn, the Department hereby rescinds the administrative review of the antidumping duty order on PET film from South Korea for the period June 1, 2005, through May 31, 2006.

The Department will issue appropriate assessment instructions directly to U.S. Customs and Border Protection (CBP) within 15 days of the publication of this notice. The Department will direct CBP to assess antidumping duties for Kohap, Ltd. at the cash deposit rate in effect on the date of entry for entries during the period June 1, 2005, through May 31, 2006.

Notification to Importers

This notice serves as a final reminder to importers of their responsibility under 19 CFR 351.402(f) to file a certificate regarding the reimbursement of antidumping duties prior to liquidation of the relevant entries during this review period. Failure to comply with this requirement could result in the Secretary's assumption that reimbursement of antidumping duties occurred and subsequent assessment of double antidumping duties.

This notice also serves as a reminder to parties subject to administrative protective order (APO) of their responsibility concerning the disposition of proprietary information disclosed under APO in accordance with 19 C.F.R. 351.305(a)(3). Timely written notification of the return/destruction of APO materials or conversion to judicial protective order is hereby requested. Failure to comply with the regulations and the terms of an APO is a sanctionable violation.

This notice is published in accordance with section 777(i)(1) of the Tariff Act of 1930, as amended, and 19 CFR 351.213(d)(4).

Dated: December 1, 2006.
Stephen J. Claeys,
Deputy Assistant Secretary for Import Administration.

[FR Doc. E6-20773 Filed 12-6-06; 8:45 am]

BILLING CODE 3510-DS-S